DEPARTMENT OF COMMERCE

National Oceanic and Atmospheric Administration

RIN 0648-XG414

Mid-Atlantic Fishery Management Council (MAFMC); Public Hearings

AGENCY: National Marine Fisheries Service (NMFS), National Oceanic and Atmospheric Administration (NOAA), Commerce.

ACTION: Notice of public hearings.

SUMMARY: The Mid-Atlantic Fishery Management Council (Council), jointly with the Atlantic States Marine Fisheries Commission (Commission's) Summer Flounder, Scup, and Black Sea Bass Board (Board), will hold 10 public hearings, including one webinar hearing, to solicit public comments on the Draft Summer Flounder Commercial Issues and Goals and Objectives Amendment to the Summer Flounder, Scup, and Black Sea Bass Fishery Management Plan (FMP).

DATES: Written public comments must be received on or before 11:59 p.m. EST, October 12, 2018. The meetings will be held between September 10, 2018 and September 27, 2018. For specific dates and times, see SUPPLEMENTARY INFORMATION.

ADDRESSES: The hearing documents are accessible electronically via the internet at: http://www.mafmc.org/actions/summer-flounder-amendment or by request to Dr. Chris Moore, Executive Director, Mid-Atlantic Fishery Management Council, 800 N State Street, Suite 201, Dover, DE 19901; telephone: (302) 674-2331.

Meeting addresses: The public hearings will be held in Bourne, MA; Narragansett, RI; Old Lyme, CT; Stony Brook, NY; Toms River, NJ; Dover, DE; Berlin, MD; Newport News, VA; and Washington, NC. One additional hearing will be held by internet webinar. For specific locations, see SUPPLEMENTARY INFORMATION.

Public comments: Written comments may be sent by any of the following methods:

• Email to: nmfs.flukeamendment@noaa.gov; Include “Summer Flounder Commercial Issues Amendment Comments” in the subject line.

• Submit via webform at: www.mafmc.org/comments/summer-flounder-amendment.

• Mail to: Dr. Christopher M. Moore, Executive Director, Mid-Atlantic Fishery Management Council, 800 N State Street, Suite 201, Dover, DE 19901. Mark the outside of the envelope “Summer Flounder Commercial Issues Amendment Comments.”

• Fax to: (302) 674-5399.

FOR FURTHER INFORMATION CONTACT: Christopher M. Moore, Ph.D., Executive Director, Mid-Atlantic Fishery Management Council, telephone: (302) 526-5255.

SUPPLEMENTARY INFORMATION: The Mid-Atlantic Fishery Management Council and the Atlantic States Marine Fisheries Commission have been preparing an amendment to the Summer Flounder, Scup, and Black Sea Bass FMP, known as the “Summer Flounder Commercial Issues and Goals and Objectives Amendment.” This amendment considers modifications to the qualification criteria for Federal commercial moratorium summer flounder permits, the current allocation of summer flounder commercial quota, and the current list of frameworkable items in the FMP (specifically, it considers adding a framework provision for commercial landings flexibility). An additional purpose of the action is to revise the FMP goals and objectives for summer flounder only. Additional information and amendment documents are available at: http://www.mafmc.org/actions/summer-flounder-amendment.

The Council and Board will hold 10 public hearings on this amendment, during which Council or Commission staff will brief the public on the contents of the amendment documents and alternatives under consideration, prior to opening the hearing for public comments. The hearings schedule is as follows:

1. Monday, September 10, 2018 at 7 p.m.: Connecticut Department of Energy and Environmental Protection Marine Headquarters Boating Education Center (Rear Building), 333 Ferry Road, Old Lyme, CT 06371.

2. Wednesday, September 12, 2018 at 6 p.m.: North Carolina Division of Marine Fisheries Washington Regional Office, 943 Washington Square Mall, US Highway 17, Washington, NC 27889.

3. Thursday, September 13, 2018 at 6 p.m.: Delaware Dept. of Natural Resources & Environmental Control Auditorium, Richardson & Robbins Building, 89 Kings Highway, Dover, DE 19901.

4. Thursday, September 13, 2018 at 6 p.m.: Virginia Marine Resources Commission, 2600 Washington Avenue, 4th Floor, Newport News, VA 23607.

5. Wednesday, September 19, 2018 at 5:30 p.m.: Bourne Community Center, Room #2, 239 Main Street, Buzzards Bay, MA 02532.

6. Wednesday, September 19, 2018 at 6 p.m.: University of Rhode Island Bay Campus, Corless Auditorium, South Ferry Road, Narragansett, RI 02882.

7. Monday, September 24, 2018 at 6 p.m.: Ocean County Administrative Building, 101 Hooper Ave., Toms River, NJ 08753.

8. Tuesday, September 25, 2018 at 6 p.m.: Ocean Pines Library, 11107 Cathell Rd., Berlin, MD 21811.

9. Thursday, September 27, 2018 at 6:30 p.m.: New York State Department of Environmental Conservation, School of Marine and Atmospheric Sciences (SOMAS), Room 120 Endeavor; Stony Brook University, Stony Brook, NY 11794.

10. Thursday, September 27, 2018 at 6:30 p.m.: Internet webinar. Connection information to be posted at www.mafmc.org prior to the meeting.

Special Accommodations

These meetings are physically accessible to people with disabilities. Requests for sign language interpretation or other auxiliary aids should be directed to M. Jan Saunders at the Mid-Atlantic Council Office, (302) 526-5251, at least 5 days prior to the meeting date.

Dated: August 14, 2018.
Tracey L. Thompson,
Acting Deputy Director, Office of Sustainable Fisheries, National Marine Fisheries Service.

[FR Doc. 2018-17776 Filed 8-16-18; 8:45 am]

BILLING CODE 3510-22-P